ENVIRONMENTAL PROTECTION AGENCY

[FRL-7068-3]

Meeting of the Local Government Advisory Committee and the Small Community Advisory Subcommittee

AGENCY: Environmental Protection Agency (EPA).

ACTION: Notice.

SUMMARY: The Local Government Advisory Committee (LGAC) and its three subcommittees the Small Community Advisory Subcommittee (SCAS), the Process Subcommittee (Process) and the Issues Subcommittee (Issues) will meet on October 24-26, 2001, in Dallas, Texas. The Committee and Subcommittees will be discussing issues concerning the relationship between local governments and the U.S. Environmental Protection Agency (EPA). The focus will be the development of recommendations to the EPA Administrator on a range of issues affecting environmental management activities including: Identification of obstacles to effective local government environmental improvement; needs of local governments, financial and otherwise, for improving environmental protection; and measure the success of environmental improvement at the local level over the long term. The LGAC in its plenary sessions will review reports and recommendations from its Subcommittees, receive updates on the implementation of previously approved recommendations, consider development of an annual report, consider work plans, and engage in a discussion on State and local water quality issues.

The SCAS, Process and Issues Subcommittees will meet in separate sessions on Wednesday, October 24th to review the status of their prior LGAC endorsed recommendations to EPA, to consider the topics noted above, and to receive updates on pending actions on Federalism, Total Maximum Daily Load (TMDL's), Public Participation, Chromated Copper Arsenate (a drinking water contaminant), Urban Air Toxics and Communications with EPA. The Subcommittee will also develop work plans for the Federal Fiscal Year 2002.

Each Subcommittee will hear from the public during their meetings on October 24th. SCAS is scheduled to hear comments from the public from 1:00 pm-1:15 pm, and both the Process and Issues Subcommittees will hear public comments from 3:45 pm-4:00 pm.

During its plenary session on Thursday, October 25th, the LGAC will hear comments from the public between 1:45 pm-2 pm. Each individual or organization wishing to address the plenary LGAC meeting or a Subcommittee will be allowed a minimum of three minutes. Please contact the Designated Federal Officers (DFO) at the numbers listed below to schedule agenda time. Time will be allotted on a first come, first served basis.

These are open meetings and all interested persons are invited to attend. LGAC meeting minutes and Subcommittee summary notes will be available after the meetings and can be obtained by written request from the DFO. Members of the public are requested to call the DFO at the number listed below if planning to attend so that arrangements can be made to comfortably accommodate attendees as much as possible. Seating will be on a first come, first served basis.

DATES: The Small Community Advisory Subcommittee is scheduled to meet from 8:30 am—5 pm and the Issues and Process Subcommittees are scheduled from 2:30 pm-5 pm on Wednesday, October 24th and from 8:30 am-10:15 am, Thursday, October 25, pending unfinished business. The Local Government Advisory Committee plenary session will begin at 10:30 am Thursday, October 25 and conclude at 3:00 pm Friday, October 26.

ADDRESSES: All meetings will be held in Dallas, Texas. The Subcommittees will meet on Wednesday, October 24th at the U.S. EPA Region 6 Office, located at Fountain Place, 1445 Ross Avenue. All persons desiring to attend a Subcommittee meeting must report to the EPA offices on the 7th floor of Fountain Place to sign in and to be directed to Subcommittee meeting rooms. The LGAC meeting on Thursday and Friday, October 25-26, will be held in the Griffin Conference Room at the Magnolia Hotel, located at 1401 Commerce Street.

Additional information can be obtained by writing the DFOs at 1200 Pennsylvania Avenue, NW. (1306A), Washington, DC 20460.

FOR FURTHER INFORMATION CONTACT: The DFO for the Local Government Advisory Committee (LGAC), the Issues and Process Subcommittees is Paul Guthrie (202) 564-3649 and the DFO for the Small Community Advisory Subcommittee (SCAS) is Anne Randolph, (202) 564-3679.

Dated: September 17, 2001.
Paul Guthrie,
Designated Federal Officer, Local Government Advisory Committee.
Dated: September 17, 2001.
Anne Randolph,
Designated Federal Officer, Small Community Advisory Subcommittee.

[FR Doc. 01-24197 Filed 9-26-01; 8:45 am]

BILLING CODE 6560-50-P